FEDERAL COMMUNICATIONS COMMISSION

47 CFR Part 73

[DA 02-2321; MB Docket Nos. 02-296; 02-297; 02-298; 02-299; 02-300; 02-301; 02-302; RM-10571, RM-10572; RM-10574; RM-10575; RM-10576; RM-10578; RM-10579]

Radio Broadcasting Services; Broken Bow, Oklahoma, Colorado City, O'Brien, Panhandle, Shamrock, Stamford, Texas; and Taloga, Oklahoma

AGENCY: Federal Communications Commission.

ACTION: Proposed rule.

SUMMARY: This document proposes seven separate allotments in Broken Bow, Oklahoma, Colorado City, O'Brien, Panhandle, Shamrock, Stamford, Texas; and Taloga, Oklahoma proceedings in a multiple docket Notice of Proposed Rule Making. Katherine Pyeatt requests the allotment of Channel 261A at O'Brien, Texas as the first local aural transmission service at a site 3.7 kilometers (2.3 miles) north of the community at coordinates 33-24-47 NL and 99-51-02 WL. Katherine Pyeatt requests the allotment of Channel 295C2 at Stamford, Texas, as the third local aural transmission service at a site 7.8 kilometers (4.9 miles) north of the community at coordinates 33-00-57 NL and 99-47-46 WL. Linda Crawford requests the allotment of Channel 291C3 at Panhandle, Texas, as the community's first local aural transmission service at a site 18.0 kilometers (11.2 miles) east of the community at coordinates 35-20-38 NL and 101-10-54 WL. Maurice Salsa requests the allotment of Channel 271A at Shamrock, Texas as the second local aural transmission service at a site 2.4 kilometers (1.5 miles) west of the community at coordinates 35-12-22 NL and 100-16-23 WL. Linda Crawford requests the allotment of Channel 257A at Colorado City, Texas, as the community's third local aural transmission service at a site 10.1 kilometers (6.3 miles) northwest of the community at coordinates 32-26-23 NL and 100-57-29 WL. Jeraldine Anderson requests the allotment of Channel 232A at Broken Bow, Oklahoma, as the community's third FM channel at a site 10.2 kilometers (6.3 miles) northeast of the community at coordinates 34-04-37 NL and 94-38-58 WL. Robert Fabian requests the allotment of Channel 226A at Taloga, Oklahoma, as the community's first local aural transmission service at a site 7.8 kilometers (4.8 miles) south of the community at coordinates 35-57-57 NL and 98-59-11 WL.

DATES: Comments must be filed on or before: November 18, 2002 and reply comments must be filed on or before December 3, 2002.

ADDRESSES: Federal Communications Commission, Washington, DC 20554. In addition to filing comments with the FCC, interested parties should serve the petitioners as follows: Katherine Pyeatt, 6655 Aintree Circle, Dallas, Texas 75214 (MB Docket Nos. 02-296, 02-297); Linda Crawford, 3500 Maple Avenue #1320, Dallas, Texas 75219 (MB Docket Nos. 02-298, 02-300); Maurice Salsa, 5615 Evergreen Valley Drive, Kingwood, Texas 77345 (MB Docket No. 02-299); Jeraldine Anderson, 1702 Cypress Drive, Irving, Texas 75061 (MB Docket No. 301); Robert Fabian, 4 Hickory Crossing Lane, Argyle, Texas 76226 (MB Docket No. 02-302).

FOR FURTHER INFORMATION CONTACT: Victoria M. McCauley, Mass Media Bureau, (202) 418-2180.

SUPPLEMENTARY INFORMATION: This is a synopsis of the Commission's Notice of Proposed Rule Making, MB Docket Nos. 02-296,02-297, 02-298, 02-299, 02-300, 02-301, 02-302, adopted September 11, 2002, and released, September 27, 2002. The full text of this document is available for public inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, 336.

§ 73.202 [Amended]

2. Section 73.202(b), the Table of FM Allotments under Oklahoma, is amended by adding Channel 232A at Broken Bow, and Taloga, Channel 226A.

3. Section 73.202(b), the Table of FM Allotments under Texas, is amended by adding Channel 257A at Colorado City, O'Brien, Channel 261A, Panhandle, Channel 291C3, Channel 271A at Shamrock, and Channel 233A at Stamford.

Federal Communications Commission.
John A. Karousos,
Assistant Chief, Audio Division, Media Bureau.

[FR Doc. 02-26226 Filed 10-18-02; 8:45 am]

BILLING CODE 6712-01-P